ENVIRONMENTAL PROTECTION AGENCY

[EPA-HQ-OAR-2022-0031; FRL-10251-01-OMS]

Information Collection Request Submitted to OMB for Review and Approval; Comment Request; NESHAP for the Wood Building Products Surface Coating Industry (Renewal)

AGENCY: Environmental Protection Agency (EPA).

ACTION: Notice.

SUMMARY: The Environmental Protection Agency (EPA) has submitted an information collection request (ICR), NESHAP for the Wood Building Products Surface Coating Industry (EPA ICR Number 2034.10, OMB Control Number 2060-0510) to the Office of Management and Budget (OMB) for review and approval in accordance with the Paperwork Reduction Act. This is a proposed extension of the ICR, which is currently approved through November 30, 2022. Public comments were previously requested via the Federal Register on April 8, 2022, during a 60-day comment period. This notice allows for an additional 30 days for public comments. A fuller description of the ICR is given below, including its estimated burden and cost to the public. An agency may not conduct or sponsor and a person is not required to respond to a collection of information unless it displays a currently valid OMB control number.

DATES: Additional comments may be submitted on or before October 28, 2022.

ADDRESSES: Submit your comments, referencing Docket ID Number EPA-HQ-OAR-2022-003, online using https://www.regulations.gov/ (our preferred method), by email to a-and-r-docket@epa.gov, or by mail to: EPA Docket Center, Environmental Protection Agency, Mail Code 28221T, 1200 Pennsylvania Ave. NW, Washington, DC 20460.

The EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov or in person at the EPA Docket Center, WJC West Building, Room 3334, 1301 Constitution Ave. NW, Washington, DC. The telephone number for the Docket Center is 202-566-1744. For additional information about EPA's public docket, visit https://www.epa.gov/dockets.

Abstract: The National Emission Standards for Hazardous Air Pollutants (NESHAP) for the regulations published at 40 CFR part 63, subpart QQQQ apply to existing facilities and new facilities that perform surface coating of wood building products where the total Hazardous Air Pollutants (HAPs) emitted are greater than or equal to 10 tons per year of any one HAP, or where the total HAPs emitted are greater than or equal to 25 tons per year of any combination of HAPs, that use at least 4,170 liters (1,100 gallons) of coatings annually. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: 5900-594.

Respondents/affected entities: Owners and operators of wood building products surface coating facilities.

Respondent's obligation to respond: Mandatory (40 CFR part 63, subpart QQQQ).

Estimated number of respondents: 57 (total).

Frequency of response: Semiannually.

Total estimated burden: 20,600 hours (per year). Burden is defined at 5 CFR 1320.3(b).

Total estimated cost: $2,470,000 (per year), includes $4,800 annualized capital or operation & maintenance costs.

Changes in the Estimates: The increase in burden from the most recently approved ICR is not due to any program changes. The increase is due to an adjustment(s). The change in the burden and cost estimates occurred because the most recent amendments to the standard have been in effect for more than three years and the requirements are different during initial compliance as compared to on-going compliance. The previous ICR reflected those burdens and costs associated with the initial activities for subject facilities, including initial performance tests and associated notifications. This ICR, by in large, reflects the on-going burden and costs for existing facilities. This ICR also updates the labor burden for facilities to familiarize themselves with the rule and process and review information each year, and includes burden for preparation and submittal of excess emissions reports with the semiannual report. The capital/startup vs. operation and maintenance (O&M) costs have decreased due to a more accurate estimate of the number of sources using add-on controls with CPMS.

Courtney Kerwin,
Director, Regulatory Support Division.

[FR Doc. 2022-21018 Filed 9-27-22; 8:45 am]

BILLING CODE 6560-50-P